DEPARTMENT OF COMMERCE

National Oceanic and Atmospheric Administration

[I.D. 081602A]

Taking and Importing Marine Mammals; Taking Marine Mammals Incidental to Navy Operations of Surveillance Towed Array Sensor System Low Frequency Active Sonar

AGENCY: National Marine Fisheries Service (NMFS), National Oceanic and Atmospheric Administration (NOAA), Commerce.

ACTION: Notice of issuance of a Letter of Authorization.

SUMMARY: In accordance with the Marine Mammal Protection Act (MMPA), as amended, and implementing regulations, notification is hereby given that a 1-year Letter of Authorization (LOA) to take marine mammals incidental to the U.S. Navy's operation of Surveillance Towed Array Sensor System Low Frequency Active (SURTASS LFA) sonar operations has been issued to the Chief of Naval Operations, Department of the Navy, 2000 Navy Pentagon, Washington, DC, and persons operating under his authority.

DATES: Effective from August 16, 2002, through August 15, 2003.

ADDRESSES: A copy of the July 16, 2002, application is available by writing to Donna Wieting, Chief, Marine Mammal Conservation Division, Office of Protected Resources, NMFS, 1315 East-West Highway, Silver Spring, MD 20910, or by telephoning the contact listed here.

FOR FURTHER INFORMATION CONTACT: Kenneth R. Hollingshead, Office of Protected Resources, NMFS, (301) 713-2055, ext 128.

SUPPLEMENTARY INFORMATION:

Background

Section 101(a)(5)(A) of the MMPA (16 U.S.C. 1361 et seq.) directs the Secretary of Commerce to allow, upon request, the incidental, but not intentional taking of small numbers of marine mammals by U.S. citizens who engage in a specified activity (other than commercial fishing) within a specified geographical region if certain findings are made and regulations are issued.

Permission may be granted for periods of 5 years or less if NMFS finds that the taking will have no more than a negligible impact on the species or stock(s), and will not have an unmitigable adverse impact on the availability of the species or stock(s) for subsistence uses. In addition, NMFS must prescribe regulations that include permissible methods of taking and other means effecting the least practicable adverse impact on the species and its habitat, and on the availability of the species for subsistence uses, paying particular attention to rookeries, mating grounds, and areas of similar significance. The regulations must include requirements pertaining to the monitoring and reporting of such taking.

Regulations governing the taking of marine mammals incidental to the U.S. Navy's operation of SURTASS LFA sonar were published on July 16, 2002 (67 FR 46712), and remain in effect until August 15, 2007. For detailed information on this action, please refer to that document. These regulations include mitigation, monitoring, and reporting requirements for the incidental taking of marine mammals by the SURTASS LFA sonar system.

Summary of Request

On July 16, 2002, NMFS received an application from the U.S. Navy for an LOA under the regulations issued on July 16, 2002 (67 FR 46712), and effective on August 15, 2002. This application updated the information contained in both the original application for an LOA dated August 12, 1999, and the revised application submitted on April 6, 2000, for takings of marine mammals by harassment incidental to deploying the SURTASS LFA sonar system for training, testing and routine military operations. The July 16, 2002, mission intention letter requested a taking by harassment, under section 101(a)(5)(A) of the MMPA, of small numbers of marine mammals incidental to operation of the SURTASS LFA sonar system while conducting up to an estimated 6 active sonar missions (or equivalent shorter missions not to exceed 432 hours of transmit time) for one year in the Archipelagic Deep Basins Province, North Pacific Tropical Gyre (West) Province, and North Pacific Tropical Gyre (East) Province within the Pacific Trade Wind Biome and in the Kuroshio Current Province, and Pacific Subarctic Gyres (West) Province within the Pacific Westerly Winds Biome, as identified in 50 CFR 216.180(a).

Authorization

Accordingly, NMFS issued an LOA to the U.S. Navy on August 16, 2002, authorizing the taking of small numbers of marine mammals incidental to operating the SURTASS LFA sonar system for training, testing and routine military operations. Issuance of this LOA is based on findings, described in the preamble to the final rule (67 FR 46712, July 16, 2002), that the total takings by this activity will result in only small numbers of marine mammals being taken, have no more than a negligible impact on marine mammal stocks, and will not have an unmitigable adverse impact on the availability of the affected marine mammal stocks for subsistence uses. A copy of the Letter of Authorization and other cited documents are available at: http://www.nmfs.noaa.gov/prot_res/PR2/Acoustics_Program/Sound.htmSonar

This LOA remains valid until August 15, 2003, provided the Navy is in conformance with the conditions of the regulations and the LOA and the mitigation, monitoring, and reporting requirements described in 50 CFR 216.184-216.186 (67 FR 46712, July 16, 2002) and in the LOA are undertaken.

Dated: August 26, 2002.
David Cottingham
Deputy Director, Office of Protected Resources, National Marine Fisheries Service.

[FR Doc. 02-22262 Filed 8-29-02; 8:45 am]

BILLING CODE 3510-22-S